FEDERAL COMMUNICATIONS COMMISSION

47 CFR Part 0

[DA 07-4354]

List of Office of Management and Budget Approved Information Collection Requirements

AGENCY: Federal Communications Commission.

ACTION: Final rule.

SUMMARY: This document revises the Commission's list of Office of Management and Budget (OMB) approved public information collection requirements with their associated OMB expiration dates. This list will provide the public with a current list of public information collection requirements approved by OMB and their associated control numbers and expiration dates as of September 28, 2007.

DATES: Effective January 4, 2008.

FOR FURTHER INFORMATION CONTACT: Judith B. Herman, Office of the Managing Director, (202) 418-0214 or by e-mail to Judith-B.Herman@fcc.gov.

SUPPLEMENTARY INFORMATION: This document adopted on December 10, 2007 and released on December 10, 2007 by the Managing Director in DA 07-4354 revised 47 CFR 0.408 in its entirety.

1. Section 3507(a)(3) of the Paperwork Reduction Act of 1995, 44 U.S.C. 3507(a)(3), requires agencies to display a current control number assigned by the Director, Office of Management and Budget (“OMB”) for each agency information collection requirement.

2. Section 0.408 of the Commission's rules displays the OMB control numbers assigned to the Commission's public information collection requirements that have been reviewed and approved by OMB.

3. Authority for this action is contained in section 4(i) of the Communications Act of 1934 (47 U.S.C. 154(i)), as amended, and § 0.231(b) of the Commission's rules. Since this amendment is a matter of agency organization procedure or practice, the notice and comment and effective date provisions of the Administrative Procedure Act do not apply. See 5 U.S.C. 553(b)(A)(d). For this reason, this rulemaking is not subject to the Congressional Review Act and will not be reported to Congress and the Government Accountability Office. See 5 U.S.C. 801.

4. Accordingly, it is ordered, that section 0.408 of the rules is revised as set forth in the revised text effective on January 4, 2008.

5. Persons having questions on this matter should contact Judith B.Herman at (202) 418-0214 or e-mail to Judith-B.Herman@fcc.gov.

List of Subjects in 47 CFR Part 0

Reporting, recordkeeping and third party disclosure requirements.

Federal Communications Commission.
Marlene H. Dortch,
Secretary.

For the reasons discussed in the preamble, the Federal Communications Commission amends 47 CFR part 0 as follows:

PART 0—COMMISSION ORGANIZATION

1. The authority citation for part 0 continues to read:

Authority: Secs. 5, 48 Stat. 1068, as amended; 47 U.S.C. 155, 225, unless otherwise noted.

2. Section 0.408 is revised to read as follows:

§ 0.408 OMB control numbers and expiration dates assigned pursuant to the Paperwork Reduction Act of 1995.

(a) Purpose. This section displays the control numbers and expiration dates for the Commission information collection requirements assigned by the Office of Management and Budget (“OMB”) pursuant to the Paperwork Reduction Act of 1995, Public Law 104-13. The Commission intends that this section comply with the requirement that agencies “display” current control numbers and expiration dates assigned by the Director, OMB, for each approved information collection requirement. Not withstanding any other provisions of law, no person shall be subject to any penalty for failing to comply with a collection of information subject to the Paperwork Reduction Act (PRA) that does not display a currently valid OMB control number. Questions concerning the OMB control numbers and expiration dates should be directed to the Associate Managing Director—Performance Evaluation and Records Management, (“AMD-PERM”), Office of Managing Director, Federal Communications Commission, Washington, DC 20554 by sending an e-mail to Judith-B.Herman@fcc.gov.

(b) Display

OMB Control No. | FCC form number or 47 CFR section or part, docket number or title identifying the collection | OMB expiration date
3060-0004 | Guidelines for Evaluating the Environmental Effects of Radiofrequency Radiation, ET Docket No. 93-62 | 03/31/08
3060-0009 | FCC 316 | 08/31/08
3060-0010 | FCC 323 | 01/31/09
3060-0016 | FCC 346 | 05/31/08
3060-0017 | FCC 347 | 05/31/09
3060-0027 | FCC 301 | 09/30/08
3060-0029 | FCC 340 | 02/28/10
3060-0031 | FCC 314, FCC 315 | 08/31/08
3060-0053 | FCC 703 | 08/31/08
3060-0055 | FCC 327 | 10/31/09
3060-0056 | Part 68 | 04/30/08
3060-0057 | FCC 731 | 12/31/08
3060-0059 | FCC 740 | 02/28/10
3060-0061 | FCC 325 | 12/31/08
3060-0065 | FCC 442 | 06/30/08
3060-0068 | FCC 702 | 08/31/08
3060-0075 | FCC 345 | 09/30/08
3060-0076 | FCC 395 | 12/31/07
3060-0084 | FCC 323-E | 06/30/08
3060-0093 | FCC 405 | 01/31/09
3060-0095 | FCC 395-A | 03/31/08
3060-0106 | Part 43 | 05/31/10
3060-0110 | FCC 303-S | 01/31/10
3060-0113 | FCC 396/396-A | 12/31/09
3060-0126 | Sec. 73.1820 | 12/31/08
3060-0132 | FCC 1068-A | 11/30/09
3060-0139 | FCC 854 | 10/31/08
3060-0147 | Sec. 64.804 | 01/31/09
3060-0149 | Part 63, Section 214, Secs. 63.01, 63.602; 63.50, 63.51, 63.52, 63.53; 63.61, 63.62, 63.63; 63.65, 63.66; 63.71; 63.90; 63.500, 63.501; 63.504, 63.505 and 63.601 | 04/30/08
3060-0157 | Sec. 73.99 | 02/28/09
3060-0161 | Sec. 73.61 | 05/31/09
3060-0166 | Part 42 | 12/31/07
3060-0168 | Sec. 43.43 | 09/30/09
3060-0169 | Secs. 43.51 and 43.53 | 08/31/08
3060-0170 | Sec. 73.1030 | 03/31/08
3060-0171 | Sec. 73.1125 | 03/31/08
3060-0173 | Sec. 73.1207 | 11/30/07
3060-0174 | Secs. 73.1212, 76.1615, and 76.1715 | 02/28/09
3060-0175 | Sec. 73.1250 | 07/31/08
3060-0176 | Sec. 73.1510 | 02/28/09
3060-0178 | Sec. 73.1560 | 01/31/09
3060-0179 | Sec. 73.1590 | 11/30/07
3060-0180 | Sec. 73.1610 | 01/31/08
3060-0181 | Sec. 73.1615 | 01/31/09
3060-0182 | Sec. 73.1620 | 05/31/10
3060-0184 | Sec. 73.1740 | 01/31/08
3060-0185 | Sec. 73.3613 | 04/30/08
3060-0188 | FCC 380 | 01/31/08
3060-0190 | Sec. 73.3544 | 01/31/10
3060-0192 | Sec. 87.103 | 09/30/10
3060-0202 | Sec. 87.37 | 09/30/09
3060-0204 | Sec. 90.20(a)(2)(v) | 01/31/09
3060-0207 | Part 11 | 02/28/09
3060-0208 | Sec. 73.1870 | 09/30/09
3060-0213 | Sec. 73.3525 | 12/31/09
3060-0214 | Secs. 73.3526 and 73.3527; Secs. 76.1701 and 73.1943 | 02/28/09
3060-0216 | Sec. 73.3538 | 04/30/08
3060-0219 | Sec. 90.20(a)(2)(xi) | 11/30/08
3060-0221 | Sec. 90.155 | 01/31/08
3060-0222 | Sec. 97.213 | 09/30/09
3060-0223 | Sec. 90.129 | 01/31/09
3060-0228 | Sec. 80.59 | 07/31/10
3060-0233 | Part 36 | 11/30/09
3060-0236 | Sec. 74.703 | 08/31/08
3060-0248 | Sec. 74.751 | 05/31/08
3060-0249 | Secs. 74.781, 74.1281, and 78.69 | 10/31/09
3060-0250 | Secs. 74.784 and 74.1284 | 06/30/09
3060-0259 | Sec. 90.263 | 09/30/09
3060-0261 | Sec. 90.215 | 06/30/10
3060-0262 | Sec. 90.179 | 04/30/08
3060-0264 | Sec. 80.413 | 09/30/09
3060-0265 | Sec. 80.868 | 05/31/10
3060-0270 | Sec. 90.443 | 01/31/10
3060-0281 | Sec. 90.651 | 06/30/10
3060-0286 | Sec. 80.302 | 04/30/10
3060-0288 | Sec. 78.33 | 02/28/09
3060-0289 | Secs. 76.601, 76.1704, 76.1705, and 76.1717 | 07/31/08
3060-0290 | Sec. 90.517 | 05/31/08
3060-0291 | Secs. 90.477(a), (b)(2), (d)(2) and (d)(3) | 07/31/08
3060-0292 | Part 69 | 01/31/10
3060-0295 | Secs. 90.607(b)(1) and (c)(1) | 04/30/10
3060-0297 | Sec. 80.503 | 09/30/09
3060-0298 | Part 61 | 05/31/08
3060-0307 | Amendment of Part 90 of the Commission's Rules to Facilitate Future Development of SMR Systems in the 800 MHz Frequency Band | 01/31/10
3060-0308 | Sec. 90.505 | 04/30/10
3060-0310 | FCC 322 | 10/31/09
3060-0311 | Sec. 76.54 | 05/31/08
3060-0316 | Secs. 76.1700, 76.1703, 76.1704, 76.1707, and 76.1711 | 03/31/08
3060-0320 | Sec. 73.1350 | 03/31/10
3060-0325 | Sec. 80.605 | 09/30/08
3060-0329 | Sec. 2.955 | 01/31/09
3060-0331 | FCC 321 | 10/31/09
3060-0332 | Secs. 76.614 and 76.1706 | 02/29/08
3060-0340 | Sec. 73.51 | 01/31/10
3060-0341 | Sec. 73.1680 | 10/31/09
3060-0346 | Sec. 78.27 | 01/31/10
3060-0347 | Sec. 97.311 | 01/31/09
3060-0349 | Secs. 73.2080, 76.73, 76.75, 76.79, and 76.1702 | 01/31/10
3060-0355 | FCC 492 and FCC 492A | 07/31/10
3060-0357 | Request for Designation as a Recognized Private Operating Agency (RPOA) | 09/30/08
3060-0360 | Sec. 80.409 | 11/30/07
3060-0370 | Part 32 | 04/30/08
3060-0374 | Sec. 73.1690 | 04/30/08
3060-0384 | Secs. 64.904 and 64.905 | 03/31/08
3060-0386 | Sec. 73.1635 | 06/30/08
3060-0387 | Sec. 15.201(d) | 09/30/09
3060-0390 | FCC 395-B | 03/31/08
3060-0391 | Program to Monitor the Impacts of the Universal Service Support Mechanisms, CC Docket Nos. 98-202 and 96-45 | 05/31/08
3060-0392 | 47 CFR Part 1, Subpart J, Pole Attachment Complaint Procedures | 01/31/10
3060-0394 | Sec. 1.420 | 09/30/08
3060-0395 | FCC Reports 43-02, FCC 43-05 and FCC 43-07 | 04/30/08
3060-0398 | Secs. 2.948 and 15.117(g)(2) | 08/31/09
3060-0400 | Tariff Review Plan | 03/31/09
3060-0404 | FCC 350 | 05/31/08
3060-0407 | Sec. 73.3598 | 12/31/08
3060-0410 | FCC 495A and FCC 495B | 04/30/08
3060-0411 | FCC 485 | 05/31/10
3060-0414 | Terrain Shielding Policy | 01/31/10
3060-0419 | Secs. 76.94, 76.95, 76.105, 76.106, 76.107, and 76.1609 | 08/31/08
3060-0422 | Sec. 68.5 | 09/30/10
3060-0423 | Sec. 73.3588 | 11/30/08
3060-0430 | Sec. 1.1206 | 04/30/08
3060-0433 | FCC 320 | 06/30/08
3060-0434 | Sec. 90.20(e)(6) | 05/31/08
3060-0435 | Sec. 80.361 | 01/31/09
3060-0436 | Equipment Authorization, Cordless Telephone Security Coding | 06/30/09
3060-0439 | Sec. 64.201 | 12/31/07
3060-0441 | Secs. 90.621(b)(4) and (b)(5) | 09/30/09
3060-0454 | Regulation of International Accounting Rates | 10/31/08
3060-0463 | Telecommunications Relay Services and the Americans with Disabilities Act of 1990, 47 CFR Part 64 | 06/30/10
3060-0466 | Secs. 73.1201, 74.783, and 74.1283 | 06/30/09
3060-0470 | Secs. 64.901 and 64.903, and RAO Letters 19 and 26 | 03/31/08
3060-0473 | Sec. 74.1251 | 12/31/08
3060-0474 | Sec. 74.1263 | 02/28/09
3060-0484 | Part 4 of the Commission's Rules Concerning Disruptions to Communications | 12/31/07
3060-0489 | Sec. 73.37 | 01/31/10
3060-0496 | FCC Report 43-08 | 03/31/10
3060-0500 | Sec. 76.1713 | 12/31/07
3060-0501 | Secs. 73.1942, 76.206 and 76.1611 | (¹)
3060-0506 | FCC 302-FM | 04/30/09
3060-0508 | Rewrite of Part 22 | 03/31/08
3060-0511 | FCC Report 43-04 | 04/30/08
3060-0512 | FCC Report 43-01 | 04/30/09
3060-0513 | FCC Report 43-03 | 04/30/09
3060-0514 | Sec. 43.21(b) | 03/31/09
3060-0515 | Sec. 43.21(c) | 09/30/08
3060-0519 | Rules and Regulations Implementing the Telephone Consumer Protection Act (TCPA) of 1991, Order, CG Docket No. 02-278 | 12/31/07
3060-0526 | Density Pricing Zone Plans, Expanded Interconnection with Local Telephone Company Facilities, CC Docket No. 91-141 | 10/31/08
3060-0531 | Local Multipoint Distribution Service (LMDS) | 01/31/10
3060-0532 | Secs. 2.1033(b)(10) and 15.121 | 12/31/08
3060-0537 | Sec. 13.217 | 05/31/08
3060-0546 | Sec. 76.59 | 03/31/09
3060-0548 | Secs. 76.1708, 76.1709, 76.1620, 76.56, and 76.1614 | 08/31/08
3060-0550 | FCC 328 | 12/31/08
3060-0560 | Sec. 76.911 | 07/31/10
3060-0561 | Sec. 76.913 | 11/30/09
3060-0562 | Sec. 76.916 | 04/30/10
3060-0564 | Sec. 76.924 | 02/28/09
3060-0565 | Sec. 76.944 | 12/31/09
3060-0567 | Sec. 76.962 | 03/31/08
3060-0568 | Secs. 76.970, 76.971 and 76.975 | 10/31/09
3060-0569 | Sec. 76.975 | 08/31/09
3060-0572 | Filing Manual for Annual International Circuit Status Reports | 05/31/10
3060-0573 | FCC 394 | 06/30/09
3060-0580 | Sec. 76.1710 | 01/31/10
3060-0584 | FCC 44 and FCC 45 | 04/30/09
3060-0589 | FCC 159, FCC 159-B, FCC 159-C, and FCC 159-E | 06/30/08
3060-0594 | FCC 1220 | 08/31/10
3060-0599 | Secs. 90.647 and 90.425 | 03/31/10
3060-0600 | FCC 175 | 11/30/09
3060-0601 | FCC 1200 | 08/31/10
3060-0607 | Sec. 76.922 | 11/30/09
3060-0609 | Sec. 76.934(e) | 01/31/08
3060-0625 | Sec. 24.103 | 04/30/10
3060-0626 | Secs. 90.168, 90.425 and 90.483 | 12/31/07
3060-0627 | FCC 302-AM | 05/31/09
3060-0633 | Secs. 73.1230, 74.165, 74.432, 74.564, 74.664, 74.765, 74.832, 74.965 and 74.1265 | 11/30/07
3060-0634 | Sec. 73.691 | 02/28/10
3060-0636 | Sec. 2.1075 | 04/30/09
3060-0638 | Sec. 76.934(g) | 05/31/08
3060-0645 | Sec. 17.4 | 04/30/09
3060-0647 | 2006 Annual Cable Price Survey and Supplemental Questions | 08/31/09
3060-0649 | Secs. 76.1601, 76.1617, 76.1697 and 76.1708 | 02/29/08
3060-0652 | Secs. 76.309, 76.1602, 76.1603, and 76.1619 | 04/30/08
3060-0653 | Secs. 64.703(b) and (c) | 05/31/08
3060-0655 | Request for Waivers of Regulatory and Application Fees Predicated on Allegations of Financial Hardship | 05/31/10
3060-0658 | Sec. 27.1213 | 03/31/08
3060-0665 | Sec. 64.707 | 12/31/07
3060-0667 | Secs. 76.630, 76.1621, and 76.1622 | 04/30/08
3060-0668 | Sec. 76.936 | 03/31/08
3060-0669 | Sec. 76.946 | 05/31/08
3060-0674 | Sec. 76.1618 | 10/31/08
3060-0678 | FCC 312, Schedule S | 03/31/10
3060-0681 | Secs. 52.103 and 52.105 | 10/31/09
3060-0685 | FCC 1210 and FCC 1240 | 04/30/09
3060-0686 | Streamlining the International Section 214 Authorization Process and Tariff Requirements | 02/28/09
3060-0687 | Access to Telecommunications Equipment and Services by Persons with Disabilities, CC Docket No. 87-124 | 05/31/09
3060-0688 | FCC 1235 | 01/31/08
3060-0690 | Sec. 101.17 | 09/30/09
3060-0691 | Sec. 90.665 | 07/31/10
3060-0692 | Home Wiring Provisions | 03/31/10
3060-0695 | Sec. 87.219 | 01/31/09
3060-0698 | Amendment of the Commission's Rules to Establish a Radio Astronomy Coordination Zone in Puerto Rico, Report and Order, ET Docket No. 96-2 | 11/30/07
3060-0700 | FCC 1275 | 07/31/10
3060-0703 | FCC 1205 | 04/30/09
3060-0704 | Policy and Rules Concerning the Interstate, Interexchange Marketplace; Implementation of Section 254(g) of the Communications Act of 1934, as amended, CC Docket No. 96-61 | 01/31/09
3060-0706 | Cable Act Reform | 10/31/08
3060-0707 | Over-the Air Reception Devices (OTARD) | 08/31/08
3060-0710 | Policy and Rules Concerning the Implementation of the Local Competition Provisions in the Telecommunications Act of 1996—CC Docket No. 96-98 | 02/28/10
3060-0711 | Secs. 1.5001, 1.5002, 1.5003, 1.5004, 1.5005, 1.5006 and 1.5007 | 10/31/09
3060-0713 | Alternative Broadcast Inspection Program (ABIP) Compliance Notification | 07/31/08
3060-0715 | Telecommunications Carriers' Use of Customer Proprietary Network Information (CPNI) and Other Customer Information—CC Docket No. 96-115 | 05/31/08
3060-0716 | Secs. 73.88, 73.718, 73.685 and 73.1630 | 11/30/09
3060-0717 | Secs. 64.703(a), 64.709, and 64.710 | 06/30/08
3060-0718 | Part 101, Governing the Terrestrial Microwave Fixed Radio Service | 06/30/09
3060-0719 | Quarterly Report of IntraLATA Carriers Listing Payphone Automatic Number Identifications (ANIs) | 01/31/10
3060-0723 | Public Disclosure of Network Information by Bell Operating Companies (BOCs) | 10/31/09
3060-0725 | Quarterly Filing of Nondiscrimination Reports (on Quality of Service, Installation, and Maintenance) by Bell Operating Companies (BOC's) | 08/31/09
3060-0727 | Sec. 73.213 | 01/31/10
3060-0734 | Secs. 53.211 and 53.213 | 06/30/08
3060-0737 | Disclosure Requirements for Information Services Provided Under a Presubscription or Comparable Arrangement | 06/30/09
3060-0740 | Sec. 95.1015 | 01/31/09
3060-0741 | Implementation of the Local Competition Provisions on the Telecommunications Act of 1996—CC Docket No. 96-98 | 11/30/07
3060-0742 | Secs. 52.21, 52.22, 52.23, 52.24, 52.25, 52.26, 52.27, 52.28, 52.29, 52.30, 52.31, 52.32 and 52.33 | 11/30/08
3060-0743 | Implementation of the Pay Telephone Reclassification and Compensation Provisions of the Telecommunications Act of 1996—CC Docket No. 96-128 | 01/31/10
3060-0745 | Implementation of the Local Exchange Carrier Tariff Streamlining Provisions of the Telecommunications Act of 1996, CC Docket No. 96-187 | 11/30/09
3060-0748 | Sec. 64.1504 | 04/30/10
3060-0749 | Sec. 64.1509 | 04/30/10
3060-0750 | Secs. 73.671 and 73.673 | 07/31/08
3060-0751 | Reports Concerning International Private Lines Interconnected to the U.S. Public Switched Network | 01/31/09
3060-0752 | Sec. 64.1510 | 04/30/10
3060-0754 | FCC 398 | 06/30/09
3060-0755 | Secs. 59.1, 59.2, 59.3 and 59.4 | 03/31/09
3060-0757 | FCC Auctions Customer Survey | 03/31/10
3060-0758 | Amendment of Part 5 of the Commission's Rules to Revise the Experimental Radio Service Regulations, ET Docket No. 96-256 | 03/31/10
3060-0760 | Access Charge Reform, CC Docket No. 96-262 | 03/31/09
3060-0761 | Sec. 79.1 | 12/31/08
3060-0763 | FCC Report 43-06 | 04/30/09
3060-0767 | Auction Forms and License Transfer Disclosures—Supplement for the 2nd Order on Reconsideration of the 5th R&O in WT Docket No. 97-82 | 05/31/08
3060-0768 | 28 GHz Band Segmentation Plan Amending the Commission's Rules to Redesignate the 27.5—29.5 GHz Frequency Band, to Reallocate the 29.5—30.0 GHz Frequency Band, and to Establish Rules and Policies for Local Multipoint Distribution Services (LMDS) and for the Fixed Satellite Service (FSS) | 01/31/09
3060-0770 | Price Cap Performance Review for Local Exchange Carriers—CC Docket No. 94-1 (New Services) | 11/30/08
3060-0773 | Sec. 2.803 | 02/28/10
3060-0774 | Federal-State Joint Board on Universal Service—CC Docket No. 96-45, and 47 CFR Part 54 | 12/31/07
3060-0775 | Sec. 64.1903 | 01/31/10
3060-0779 | Amendment of Part 90 of the Commission's Rules to Provide for Use of the 220 MHz Band by the Private Land Mobile Radio Service (PLMRS), PR Docket No. 89-552 | 09/30/10
3060-0782 | Petition for Limited Modification of LATA Boundaries to Provide Expanded Local Calling Service (ELCS) at Various Locations | 11/30/09
3060-0783 | Sec. 90.176 | 01/31/09
3060-0786 | Petitions for LATA Association Changes by Independent Telephone Companies | 11/30/09
3060-0787 | Implementation of Subscriber Carrier Selection Changes Provisions of the Telecommunications Act of 1996; Policies and Rules Concerning Unauthorized Changes of Consumers' Long Distance | 11/30/07
3060-0788 | DTV Showings/Interference Agreements | 03/31/08
3060-0790 | Sec. 68.110(c) | 10/31/09
3060-0791 | Accounting for Judgments and Other Costs Associated with Litigation, CC Docket No. 93-240 | 11/30/09
3060-0793 | Federal-State Joint Board on Universal Service, Procedures for Self-Certifying as a Rural Carrier, CC Docket No. 96-45 | 09/30/08
3060-0795 | FCC 606 | 07/31/08
3060-0798 | FCC 601 | 04/30/10
3060-0799 | FCC 602 | 12/31/09
3060-0800 | FCC 603 | 06/30/10
3060-0804 | FCC 465, FCC 466, FCC 466-A, and FCC 467 | 06/30/08
3060-0805 | Secs. 90.523, 90.527, and 90.545 | 06/30/08
3060-0806 | FCC 470 and FCC 471 | 11/30/07
3060-0807 | Sec. 51.803 and Supplemental Procedures for Petitions to Section 252(e)(5) of the Communications Act of 1934, as amended | 09/30/10
3060-0809 | Communications Assistance for Law Enforcement Act (CALEA) and Broadband Access and Services | 12/31/07
3060-0810 | Procedures for Designation of Eligible Telecommunications Carriers Pursuant to Section 214(e)(6) of the Communications Act of 1934, as amended | 09/30/09
3060-0812 | Exemption from Payment of Regulatory Fees When Claiming Non-Profit Status | 01/31/09
3060-0813 | Commission's Rules to Ensure Compatibility with Enhanced 911 Calling Systems | 02/28/09
3060-0814 | Sec. 54.301 | 03/31/08
3060-0816 | FCC 477 | 05/31/08
3060-0817 | Computer III Further Remand Proceedings: BOC Provision of Enhanced Services (ONA Requirements), CC Docket No. 95-20 | 09/30/09
3060-0819 | Secs. 54.400, 54.401, 54.402, 54.403, 54.404, 54.405, 54.406, 54.407, 54.408, 54.409. 54.410, 54.411, 54.412, 54.413, 54.414, 54.415, 54.416 and 54.417, and FCC 497 | 05/31/08
3060-0823 | Pay Telephone Reclassification, Memorandum Opinion and Order, CC Docket No. 96-128 | 05/31/08
3060-0824 | FCC 498 | 09/30/09
3060-0833 | Implementation of Section 255 of the Telecommunications Act of 1996: Complaint Filings/Designation of Agents | 03/31/08
3060-0835 | FCC 806, FCC 824, FCC 827 and FCC 829 | 04/30/09
3060-0837 | FCC 302-DTV | 04/30/08
3060-0841 | Public Notice, Additional Processing Guidelines for DTV | 04/30/08
3060-0844 | Carriage of the Transmissions of Digital Television Broadcast Stations | 01/31/08
3060-0848 | Deployment of Wireline Services Offering Advanced Telecommunications Capability—CC Docket No. 98-147 | 04/30/09
3060-0849 | Commercial Availability of Navigation Devices, CS Docket No. 97-80 | 06/30/10
3060-0850 | FCC 605 | 06/30/08
3060-0853 | FCC 479, FCC 486, and FCC 500 | 04/30/10
3060-0854 | Truth-in-Billing Format, CC Docket No. 98-170 | 09/30/08
3060-0855 | FCC 499-A, and FCC 499-Q | 09/30/10
3060-0856 | FCC 472, FCC 473, and FCC 474 | 04/30/10
3060-0859 | Suggested Guidelines for Petitions for Ruling under Section 253 of the Communications Act | 06/30/09
3060-0862 | Handling Confidential Information | 06/30/08
3060-0863 | Satellite Delivery of Network Signals to Unserved Households for Purposes of the Satellite Home Viewer Act (SHVA) | 04/30/09
3060-0865 | Wireless Telecommunications Bureau Universal Licensing System Recordkeeping and Third-Party Disclosure Requirements | 07/31/10
3060-0874 | FCC 475B, FCC 2000 Series | 09/30/10
3060-0876 | Sec. 54.703 and Secs. 54.719, 54.720, 54.721, 54.722, 54.723, 54.724 and 54.725 | 09/30/09
3060-0881 | Sec. 95.861 | 09/30/08
3060-0882 | Sec. 95.833 | 01/31/09
3060-0888 | Secs. 76.7, 76.9, 76.61, 76.914, 76.1003, 76.1302, and 76.1513 | 05/31/08
3060-0894 | Secs. 54.313 and 54.316 and Certification Letter Accounting for Receipt of Federal Support and Rate Comparability Review and Certification | 09/30/10
3060-0895 | FCC 502 | 05/31/10
3060-0896 | Broadcast Auction Form Exhibits | 12/31/08
3060-0900 | Compatibility of Wireless Services with Enhanced 911—CC Docket No. 94-102 | 02/28/09
3060-0901 | Reports of Common Carriers and Affiliates | 04/30/09
3060-0905 | Secs. 18.213 and 18.307 | 11/30/08
3060-0906 | FCC 317 | 05/31/09
3060-0910 | Third Report and Order in CC Docket No. 94-102 to Ensure Compatibility with Enhanced 911 Emergency Calling Systems | 09/30/09
3060-0912 | Cable Attribution Rules | 11/30/09
3060-0917 | FCC 160 | 03/31/10
3060-0918 | FCC 161 | 03/31/10
3060-0920 | FCC 318 | 08/31/08
3060-0921 | Petitions for LATA Boundary Modification for the Deployment of Advanced Services | 09/30/09
3060-0922 | FCC 397 | 09/30/09
3060-0927 | Auditor's Annual Independence and Objectivity Certification | 04/30/09
3060-0928 | FCC 302-CA | 01/31/10
3060-0931 | Maritime Mobile Services Identity (MMSI) | 06/30/09
3060-0932 | FCC 301-CA | 05/31/08
3060-0936 | Secs. 95.1215 and 95.1217 | 08/31/09
3060-0937 | Establishment of a Class A Television Service, MM Docket No. 00-10 | 09/30/10
3060-0938 | FCC 319 | 09/30/09
3060-0939 | E911, Second Memorandum Opinion and Order | 11/30/07
3060-0942 | Access Charge Reform, Price Cap Performance Review for Local Exchange Carriers, Low-Volume Long Distance Users, Federal-State Joint Board on Universal Service | 03/31/10
3060-0943 | Sec. 54.809 | 10/31/09
3060-0944 | Review of Commission Consideration of Applications Under the Cable Landing License Act | 03/31/09
3060-0949 | FCC 159-W | 03/31/10
3060-0950 | Bidding Credits for Tribal Lands, WT Docket No. 99-266 | 09/30/10
3060-0951 | Sec. 1.1204(b) Note, and Sec. 1.1206(a) Note 1 | 01/31/10
3060-0952 | Proposed Demographic Information and Notifications, CC Docket Nos. 98-147 and 96-98 | 01/31/10
3060-0953 | Wireless Medical Telemetry Service, ET Docket No. 99-255, FCC 00-211 | 04/30/10
3060-0955 | 2 GHz Mobile Satellite Service Reports | 02/28/10
3060-0957 | Wireless Enhanced 911 Service | 11/30/07
3060-0960 | Secs. 76.122, 76.123, 76.124 and 76.127 | 05/31/08
3060-0962 | Redesignation of the 18 GHz Frequency Band, Blanket Licensing of Satellite Earth Stations in the Ka-Band, and the Allocation of Additional Spectrum for Broadcast Satellite Service Use | 11/30/08
3060-0966 | Secs. 80.385, 80.475, and 97.303 | 01/31/09
3060-0967 | Sec. 79.2 | 09/30/10
3060-0968 | FCC 501 | 09/30/10
3060-0971 | Numbering Resource Optimization, CC Docket Nos. 96-98 and 99-200 | 11/30/07
3060-0972 | FCC 507, FCC 508 and FCC 509 | 11/30/07
3060-0973 | Sec. 64.1120(e) | 12/31/07
3060-0975 | Promotion of Competitive Networks in Local Telecommunications Markets Multiple Environments (47 CFR Parts 1, 64 and 68) | 01/31/08
3060-0978 | Sec. 20.18, 911 Service, Fourth Report and Order | 04/30/09
3060-0979 | Spectrum Audit Letter | 09/30/09
3060-0980 | Satellite Home Viewer Extension and Reauthorization Act of 2004 (SHVERA) Rules, Broadcast Signal Carriage Issues, Retransmission Consent Issues | 06/30/08
3060-0982 | Implementation of Low Power Television (LPTV) Digital Data Services Pilot Project | 01/31/08
3060-0984 | Secs. 90.35(b)(2) and 90.175(b)(1) | 09/30/10
3060-0986 | FCC 525 | 06/30/08
3060-0987 | 911 Callback Capability: Non-initialized Phones | 10/31/08
3060-0989 | Secs. 63.01, 63.03 and 63.04 | 11/30/08
3060-0991 | AM Measurement Data | 05/31/08
3060-0992 | Secs. 54.507(d)(1)-(4) and CC Docket No. 96-45 | 01/31/08
3060-0994 | Flexibility for Delivery of Communications by Mobile Satellite Service Providers in the 2 GHz Band, the L-Band, and the 1.6/2.4 GHz Band | 01/31/10
3060-0995 | Sec. 1.2105(c) | 05/31/08
3060-0996 | AM Auction Section 307(b) Submissions | 05/31/08
3060-0997 | Sec. 52.15(k) | 05/31/08
3060-0998 | Sec. 87.109 | 08/31/10
3060-0999 | Sec. 20.19 | 09/30/10
3060-1000 | Sec. 87.147 | 01/31/08
3060-1001 | FCC 337 | 05/31/08
3060-1003 | Communications Disaster Information Reporting System (DIRS) | 07/31/10
3060-1004 | Revision of the Commission's Rules to Ensure Compatibility with Enhanced 911 Emergency Calling Systems | 09/30/09
3060-1005 | Numbering Resource Optimization—Phase 3 | 06/30/08
3060-1007 | Streamlining and Other Revisions of Part 25 of the Commission's Rules | 07/31/10
3060-1008 | Reallocation and Service Rules for the 698-746 MHz Band (Television Channels 52-59) | 11/30/08
3060-1009 | FCC 499-M | 01/31/09
3060-1012 | Schools and Libraries Universal Service Support Mechanism, CC Docket No. 02-6, NPRM, Proposed ADA Certification | 06/30/08
3060-1013 | Mitigation of Orbital Debris | 04/30/08
3060-1014 | Ku-Band NGSO FSS | 04/30/09
3060-1015 | Ultra Wideband Transmission Systems Operating Under Part 15 | 04/30/09
3060-1021 | Sec. 25.139 | 11/30/08
3060-1022 | Sec. 101.1403 | 01/31/09
3060-1023 | Sec. 101.103 | 01/31/09
3060-1024 | Sec. 101.1413 | 01/31/09
3060-1025 | Sec. 101.1440 | 01/31/09
3060-1026 | Sec. 101.1417 | 01/31/09
3060-1027 | Sec. 27.602 | 03/31/09
3060-1028 | International Signaling Point Code (ISPC) | 10/31/08
3060-1029 | Data Network Identification Code (DNIC) | 10/31/08
3060-1030 | Service Rules for Advanced Wireless Services (AWS) in the 1.7 GHz and 2.1 GHz Bands | 06/30/10
3060-1031 | Revision of the Commission's Rules to Ensure Compatibility with Enhanced 911 Emergency Calling Systems—Petition of City of Richardson, TX; Order on Reconsideration II | 10/31/09
3060-1033 | FCC 396-C | 05/31/10
3060-1034 | Digital Audio Broadcasting Systems and Their Impact on the Terrestrial Radio Broadcast Service | 01/31/10
3060-1035 | FCC 309, FCC 310 and FCC 311 | 01/31/09
3060-1036 | Potential Reporting Requirements on Local Exchange Carriers to Assist Expeditious Implementation of Wireless E911 Service | 05/31/09
3060-1038 | Digital Television Transition Information Questionnaires | 01/31/10
3060-1039 | FCC 620 and FCC 621 | (¹)
3060-1040 | Broadcast Ownership Rules, Report and Order in MB Docket No. 02-777 and MM Docket Nos. 02-235, 02-327, and 00-244 | 02/28/10
3060-1041 | Remedial Measures for Failure to Construct Digital Television Stations (DTV Policy Statement) | 06/30/09
3060-1042 | Request for Technical Support—Help Request Form | 02/29/08
3060-1043 | Telecommunications Relay Services and Speech-to-Speech Services for Individuals with Hearing and Speech Disabilities, CC Docket No. 98-67 | 03/31/08
3060-1044 | Review of the Section 251 Unbundling Obligations of Incumbent Local Exchange Carriers, CC Docket No. 01-338, and WC Docket No. 04-313, FCC 04-290 | 03/31/10
3060-1045 | FCC 324 | 11/30/09
3060-1046 | Pay Telephone Reclassification and Compensation Provisions of the Telecommunications Act of 1996, CC Docket No. 96-128 | 05/31/08
3060-1047 | Telecommunications Relay Services and Speech-to-Speech Services for Individuals with Hearing and Speech Disabilities, Report and Order, CG Docket Nos. 03-123, FCC 05-203 | 02/28/09
3060-1048 | Sec. 1.929(c)(1) | 03/31/10
3060-1050 | New Allocation for Amateur Radio Service, ET Docket No. 02-98 | 11/30/07
3060-1053 | Sec. 64.604, Telecommunications Relay Services, and Speech-to-Speech Services for Individuals with Hearing and Speech Disabilities, Two-Line Captioned Telephone Order | 05/31/10
3060-1054 | FCC 422-IB | 02/28/10
3060-1055 | FCC 423-IB | 02/28/10
3060-1056 | FCC 421-IB | 02/28/10
3060-1057 | FCC 420-IB | 02/28/10
3060-1058 | FCC 608 | 06/30/10
3060-1059 | Global Mobile Personal Communications by Satellite (GMPCS)/E911 Call Centers | 02/29/08
3060-1060 | Wireless E911 Coordination Initiative Letter | 10/31/07
3060-1061 | Earth Stations on Board Vessels (ESVs) | 05/31/08
3060-1062 | Schools and Libraries Universal Service Support Mechanism—Notification of Equipment Transfers | 07/31/10
3060-1063 | Global Mobile Personal Communications by Satellite (GMPCS) Authorization, Marketing and Importation Rules | 03/31/10
3060-1064 | Regulatory Fee Assessment True-Ups, NPRM, MD Docket No. 05-59, FCC 05-35 | 05/31/08
3060-1065 | Sec. 25.701 | 06/30/10
3060-1066 | FCC 312-R | 03/31/10
3060-1067 | FCC 312-EZ | 05/31/10
3060-1068 | Enhanced 911 Emergency Calling Systems, Scope of Service for CMRS | 11/30/07
3060-1069 | Rules and Policies Concerning Attribution of Joint Sales Agreements in Local Television Markets, NPRM, MB Docket No. 94-246, FCC 04-173 | 08/31/10
3060-1070 | Allocations and Service Rules for the 71-76 GHz, 81-86 GHz, and 92-95 GHz Bands | 12/31/08
3060-1078 | Rules and Regulations Implementing the Controlling the Assault of Non-Solicited Pornography and Marketing Act of 2003 (CAN-SPAM Act), CG Docket No. 04-53 | 12/31/07
3060-1079 | Radio Frequency Identification Equipment (RFID) | 03/31/08
3060-1080 | Improving Public Safety Communications in the 800 MHz Band | 08/31/08
3060-1081 | Federal-State Joint Board on Universal Service, CC Docket No. 96-45 | 10/31/08
3060-1083 | Request to Update Default Compensation Rate for Dial-Around Calls from Pay Phones, WC Docket No. 03-225 | 06/30/08
3060-1084 | Rules and Regulations Implementing Minimum Customer Account Record Obligations on All Local and Interexchange Carriers (CARE), CG Docket No. 02-386 | 06/30/10
3060-1085 | Collection of Location Information, Provision of Notice and Reporting on Interconnected Voice Over Internet Protocol (VoIP) E911 Compliance | 01/31/09
3060-1086 | Secs. 74.786, 74.787, 74.790, 74.794 and 74.796 | 09/30/08
3060-1087 | Broadband Over Power Lines (BPL), ET Docket No. 04-37 | 09/30/08
3060-1088 | FCC 1088 Series | 03/31/10
3060-1089 | Telecommunications Relay Services and Speech-to-Speech Services for Individuals with Hearing and Speech Disabilities; Emergency Access Notice of Proposed Rulemaking and IP Relay/VRS Fraud | (¹)
3060-1090 | Order and Implementing Public Notices Requiring BRS Channels 1 and/or 2/2A Licensee to File Data on the Construction Status and/or Operational Parameters of Each System | 04/30/09
3060-1091 | Telecommunications Relay Services and Speech-to-Speech Services for Individuals with Hearing and Speech Disabilities; VRS Interoperability, Declaratory Ruling and Further Notice of Proposed Rulemaking | 10/31/07
3060-1092 | FCC 609-T and FCC 611-T | 01/31/10
3060-1094 | Licensing, Operation, and Transition of the 2500-2690 MHz Band | 10/31/09
3060-1095 | Surrenders of Authorization for International Carrier, Space Station and Earth Station Licensees | 12/31/09
3060-1096 | Prepaid Calling Card Service Provider Certification, WC Docket No. 05-68 | 02/28/10
3060-1098 | Rural Health Care Support Mechanism | 03/31/10
3060-1100 | Sec. 15.117 | 09/30/10
3060-1101 | Children's Television Requests for Preemption Flexibility | 06/30/10
3060-1103 | Sec. 76.41 | 07/31/10
3060-1107 | Request To State and Local Public Safety Entities for Information Equipment Operating in Affected Portion of 700 MHz Public Safety Spectrum | 12/31/07
3060-1108 | Consummations of Assignments and Transfers of Control Authorization | 09/30/10
3060-1109 | Information Collection for Emergency Communications Back-Up System Report to Congress | 12/31/07
¹Pending OMB Approval.

[FR Doc. E7-25647 Filed 1-3-08; 8:45 am]

BILLING CODE 6712-01-P